DEPARTMENT OF LABOR

Employment and Training Administration

Comment Request for Information Collection for Employment and Training (ET) Handbook 336, 18th Edition: “Unemployment Insurance (UI) State Quality Service Plan Planning (SQSP) and Reporting Guidelines,” Extension Without Revision

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about the proposed extension to ET Handbook 336, 18th Edition: “Unemployment Insurance (UI) State Quality Service Plan Planning (SQSP) and Reporting Guidelines” which expires October 31, 2014.

DATES: Submit written comments to the office listed in the addressee's section below on or before June 30, 2014.

ADDRESSES: Submit written comments to the Employment and Training Administration, Office of Unemployment Insurance, 200 Constitution Avenue NW., Room S4220, Washington, DC 20210, Attention: Delores Ferrell. Telephone number: 202-693-3183 (this is not a toll-free number). Fax: 202-693-3975. Email: ferrell.delores@dol.gov. A copy of the proposed information collection request (ICR) can be obtained by contacting the person listed above.

SUPPLEMENTARY INFORMATION:

I. Background

The SQSP represents an approach to the unemployment insurance performance management and planning process that allows for an exchange of information between the federal and state partners to enhance the ability of the program to reflect the joint commitment to performance excellence and client-centered services. As part of UI Performs, a comprehensive performance management system implemented in 1995 for the UI program, the SQSP is the principal vehicle that state UI agencies use to plan, record and manage program improvement efforts as they strive for excellence in service. The SQSP, which serves as the State Plan for the UI program, also serves as the grant document through which states receive federal UI administrative funding. The statutory basis for the SQSP is Title III, Section 302 of the Social Security Act, which authorizes the Secretary of Labor to provide funds to administer the UI programs, and Sections 303 (a) (8) and (9) which govern the expenditures of those funds. The SQSP represents an approach to tie program performance with the budget and planning process.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

States will continue to use the State Plan Narrative to provide a general summary of the UI program in the state. Additionally, states are to include in the Narrative: (1) Performance in comparison to the Government Performance and Results Act (GPRA) goals; (2) results of customer satisfaction surveys (optional); and (3) actions planned to correct deficiencies regarding UI programs and reporting requirements. Actions planned to correct deficiencies for Secretary Standards, Core Measures, and the Data Validation (DV) program are expected to be addressed in corrective action plans. Currently, the Employment and Training Administration is soliciting comments concerning the extension of ET Handbook No. 336.

III. Current Actions

Type of Review: extension without revision.

Title: Unemployment Insurance State Quality Service Plan (SQSP).

OMB Number: 1205-0132.

Affected Public: State Workforce Agencies.

Total Annual Respondents: 53.

Reporting Frequency: Biannual, annual, and quarterly.

Estimated Total Annual Responses: 535.

Average Time per Response: 2.86 hours.

Estimated Total Annual Burden Hours: 1530 hours.

Total Estimated Annual Other cost Burden: $0.

Comments submitted in response to this comment request will be summarized and/or included in the request for OMB approval of the ICR; they will also become a matter of public record.

Eric M. Seleznow,
Acting Assistant Secretary for Employment and Training, Labor.

[FR Doc. 2014-09748 Filed 4-28-14; 8:45 am]

BILLING CODE 4510-FW-P